DEPARTMENT OF THE INTERIOR

Bureau of Ocean Energy Management

[Docket No. BOEM-2022-0064]

Gulf of Mexico Outer Continental Shelf Oil and Gas Lease Sale 259

AGENCY: Bureau of Ocean Energy Management, Interior.

ACTION: Final notice of sale.

SUMMARY: On Wednesday, March 29, 2023, the Bureau of Ocean Energy Management (BOEM) will open and publicly announce bids received for blocks offered in the Gulf of Mexico (GOM) Regionwide Outer Continental Shelf (OCS) Oil and Gas Lease Sale 259 (GOM Lease Sale 259), in accordance with the Outer Continental Shelf Lands Act (OCSLA), as amended, and its implementing regulations. The Inflation Reduction Act of 2022 requires BOEM to hold GOM Lease Sale 259 by March 31, 2023. The GOM Lease Sale 259 Final Notice of Sale (NOS) package contains information essential to potential bidders and comprises this notice, Information to Lessees, and Lease Stipulations.

DATES: BOEM will hold GOM Lease Sale 259 at 9:00 a.m. on Wednesday, March 29, 2023. All times referred to in this document are Central time, unless otherwise specified.

Bid submission deadline: BOEM must receive all sealed bids prior to the Bid Submission Deadline of 10:00 a.m. on Tuesday, March 28, 2023, the day before the lease sale. For more information on bid submission, see section VII of this document, “Bidding Instructions.”

ADDRESSES: Bids will be accepted by MAIL ONLY through any parcel delivery service (e.g., FedEx, UPS, U.S. Postal Service, DHL), prior to the bid submission deadline, at 1201 Elmwood Park Boulevard, New Orleans, Louisiana, 70123. Public bid reading for GOM Lease Sale 259 will be held at 1201 Elmwood Park Boulevard, New Orleans, Louisiana. The venue will not be open to the general public, media, or industry during bid opening or reading. Bid opening will be available for public viewing on BOEM's website at http://www.boem.gov/Sale-259/ via live-streaming video beginning at 9:00 a.m. on the date of the sale. The results will be posted on BOEM's website upon completion of bid opening and reading. Interested parties may download the Final NOS package from BOEM's website at http://www.boem.gov/Sale-259/. Copies of the sale maps can be obtained by contacting the BOEM GOM Region: Gulf of Mexico Region Public Information Office, Bureau of Ocean Energy Management, 1201 Elmwood Park Boulevard, New Orleans, Louisiana 70123-2394, (504) 736-2519 or (800) 200-GULF.

FOR FURTHER INFORMATION CONTACT: Gregory Purvis, Program Analyst, The New Orleans Office Lease Sale Coordinator at BOEMGOMRLeaseSales@boem.gov or 504-736-1729.

SUPPLEMENTARY INFORMATION:

Authority: This notice of sale is published pursuant to 43 U.S.C. 1331 et seq. (Outer Continental Shelf Lands Act, as amended) and 30 CFR 556.308(a).

Table of Contents

I. Lease Sale Area

II. Statutes and Regulations

III. Lease Terms and Economic Conditions

IV. Lease Stipulations

V. Information to Lessees

VI. Maps

VII. Bidding Instructions

VIII. Bidding Rules and Restrictions

IX. Forms

X. The Lease Sale

XI. Delay of Sale

I. Lease Sale Area

Blocks Offered for Leasing: BOEM will offer for bid in this lease sale all of the available unleased acreage in the GOM OCS as identified on the map, “Final Notice of Sale, Gulf of Mexico OCS Oil and Gas Lease Sale 259, March, 2023, Final Sale Area” (http://www.boem.gov/Sale-259/) except those blocks listed below in “Blocks Not Offered for Leasing.”

Blocks Not Offered for Leasing: BOEM will exclude the following whole and partial blocks from this sale. The BOEM Official Protraction Diagrams (OPDs) and Supplemental OPDs are available online at https://www.boem.gov/Maps-and-GIS-Data/.

• Whole and Partial Blocks withdrawn from leasing by Presidential Withdrawal in the September 8, 2020, Memorandum on the Withdrawal of Certain Areas of the United States Outer Continental Shelf from Leasing Disposition:

GOM protraction areas | Block
Pensacola (Leasing Map NH 16-05) | Whole Blocks: 751-754, 793-798, 837-842, 881-886, 925-930, 969-975.
Destin Dome (Leasing Map NH 16-08) | Whole Blocks: 1-7, 45-51, 89-96, 133-140, 177-184, 221-228, 265-273, 309-317, 353-361, 397-405, 441-450, 485-494, 529-538, 573-582, 617-627, 661-671, 705-715, 749-759, 793-804, 837-848, 881-892, 925-936, 969-981.
DeSoto Canyon (Leasing Map NH 16-11) | Whole Blocks: 1-15, 45-59, 92-102. Partial Blocks: 16, 60, 61, 89-91, 103-105, 135-147.
Henderson (Leasing Map NG 16-05) | Partial Blocks: 114, 158, 202, 246, 290, 334, 335, 378, 379, 422, 423.

• Whole and Partial Blocks within the boundary of the Flower Garden Banks National Marine Sanctuary (East and West Flower Garden Banks and the Stetson Bank) as of the July 14, 2008, Memorandum on Modification of the Withdrawal of Areas of United States Outer Continental Shelf from Leasing Disposition:

GOM protraction areas | Block
High Island, East Addition, South Extension (Leasing Map TX7C) | Whole Block: A-398. Partial Blocks: A-366, A-367, A-374, A-375, A-383, A-384, A-385, A-388, A-389, A-397, A-399, A-401.
High Island, South Addition (Leasing Map TX7B) | Partial Blocks: A-502, A-513.
Garden Banks (Leasing Map NG 15-02) | Partial Blocks: 134, 135.

• Whole and Partial Blocks that are adjacent to or beyond the U.S. Exclusive Economic Zone in the area known as the northern portion of the Eastern Gap:

GOM protraction areas | Block
Lund South (Leasing Map NG 16-07) | Whole Blocks: 128, 129, 169-173, 208-217, 248-261, 293-305, 349.
Henderson (Leasing Map NG 16-05) | Whole Blocks: 466, 508-510, 551-554, 594-599, 637-643, 679-687, 722-731, 764-775, 807-819, 849-862, 891-905, 933-949, 975-992. Partial Blocks: 335, 379, 423, 467, 511, 555, 556, 600, 644, 688, 732, 776, 777, 820, 821, 863, 864, 906, 907, 950, 993, 994.
Florida Plain (Leasing Map NG 16-08) | Whole Blocks: 5-24, 46-67, 89-110, 133-154, 177-197, 221-240, 265-283, 309-327, 363-370.

• Depth-restricted, segregated block portion(s). The current block meeting this criterion is: Block 299, Main Pass Area, South and East Addition (as shown on Louisiana Leasing Map LA10A), containing 1,125 acres from the surface of the earth down to a subsea depth of 1,900 feet with respect to the following described portions: SW¼NE¼; NW¼SE¼NE¼; W½NE¼SE¼NE¼; S½S½NW¼NE¼; S½SW¼NE¼NE¼; S½SW¼SE¼NE¼NE¼; N½SW¼SE¼ NE¼; SW¼SW¼SE¼NE¼; NW¼SE¼ SE¼ NE¼; N½NW¼SW¼SE¼SE¼NE¼; N½SE¼SW¼SE¼NE¼; N½S½SE¼SW¼SE¼NE¼; S½NE¼NW¼; S½S½N½NE¼NW¼; N½SE¼NW¼; S½SE¼NW¼NW¼; NE¼SE¼ NW¼NW¼; E½NE¼SW¼NW¼; N½SE¼SE¼NW¼; NE¼SW¼SE¼NW¼; N½NW¼SW¼SE¼NW¼; SE¼SE¼SE¼NW¼; E½SW¼SE¼SE¼NW¼; N½NW¼NE¼SW¼NW¼; N½S½NW¼NE¼SW¼NW¼; N½N½NE¼NE¼NE¼SW¼; N½N½N½NW¼NW¼SE¼; N½N½NW¼NE¼NW¼SE¼

• Whole and Partial Blocks that are South of Baldwin County, Alabama:

GOM protraction areas | Blocks
Mobile (Leasing Map NH16-04) | 826-830, 869-874, 913-918, 957-962, 1001-1006.
Viosca Knoll (Leasing Map NH 16-07) | 33-35.

• Whole and Partial Blocks that were otherwise proposed to be subject to the Topographic Features Stipulation:

GOM protraction area | Blocks
East Breaks (Leasing Map NG 15-01) | 121-124, 165-168, 173, 217.
East Cameron Area (Leasing Map LA2) | 361-363, 377-379.
Eugene Island Area (Leasing Map LA4) | 335, 355-356, 381-383, 390-391, 397.
Ewing Bank (Leasing Map NH 15-12) | 903, 932-933, 944-945, 947, 975-977.
Garden Banks (Leasing Map NG 15-02) | 26-31, 33, 61-63, 70-77, 81-85, 95-98, 102-110, 119-121, 126-128, 133-136, 138-146, 148-155, 177-180, 192-198, 237-239.
Green Canyon (Leasing Map NG 15-03) | 4-7, 49-50, 90.
High Island Area, East Addition (Leasing Map TX7A) | A311-312, A 327-A 332, A 340, A 346- A403, A446-A448, A463-A465, A486-A488, A501-A503, A512-A514, A527-A529, A534-A535, A573, A578-A580, A589-A591, A596.
Mississippi Canyon (Leasing Map NH 16-10) | 316.
Mustang Island Area (Leasing Map TX3) | A3-4, A9, A16, A54, A61-A62, A86-A87, A95, A117-A118, A136-A137.
North Padre Island Area (Leasing Map TX2) | PN A30-A31, A40-A41, A72, A83-A84.
South Marsh Island Area, North Addition (Leasing Map LA3D) | 161-163, 169-173, 176-180, 185-188, 193-197, 200-204.
Ship Shoal Area (Leasing Map LA5) | 325-329, 334-339, 348-353, 356-359.
South Timbalier Area (Leasing Map LA6) | 314-317.
Vermilion Area (Leasing Map LA3) | 284-286, 297-300, 303-306, 317-320, 361-363, 369-372, 382-396, 403-412.
West Cameron Area (Leasing Map LA1) | 569-570, 589-592, 611-614, 633-638, 645-646, 648-663.
West Delta Area (Leasing Map LA8) | 147-148.

• Whole and Partial Blocks that were otherwise proposed to be subject to the Live Bottom (Pinnacle Trend) Stipulation:

GOM protraction area | Blocks
Main Pass Area, South and East Addition (Leasing Map LA10A) | 190, 194, 198, 219-226, 244-266, 276-290.
Viosca Knoll (Leasing Map NH 16-07) | 473-476, 521-522, 564-566, 610, 654, 692-698, 734, 778.

• Whole and Partial Blocks identified as either draft or final Wind Energy Areas A-N:

GOM protraction area | Blocks
Brazos Area (Leasing Map TX5) | 430, 457-459, 466-468, 572-575, 580-584, 609-614, A22, A28-A29, A3, A30-A35, A42-A43.
Brazos Area, South Addition (Leasing Map TX5B) | A102-A105, A46-A48, A55-A58, A60-A61, A73-A74.
East Cameron Area (Leasing Map LA2) | 96-106, 113-124.
Galveston Area (Leasing Map TX6) | 237, 258-259, 265-268, 286-291, 293-299, 317-327, 350-356, 386-387, 427-429, 460-462, 464-465, A1-A9, A10-A38, A40-A49, A52-A55, A61-A77, A84-A86, A91-A94, A97-A99, A103-A105, A110-A113.
Galveston Area, South Addition (Leasing Map TX6A) | A114-A119, A123-A124, A138-A139, A140-A148, A169-A174, A203.
High Island Area (Leasing Map TX7) | 235-236, 260-261, 263-264, 292, A2-A4, A11-A15, A27-A31, A62-A64, A66-A68, A70-A90, A92-A99, A100-A111, A113-A116, A118-A142, A144-A152, A156-A163, A165-A166.
High Island Area, East Addition (Leasing Map TX7A) | A170-A174, A177-A182, A187-A193, A195-A199, A202-A209, A211-A213, A216-217, A220-A228, A233-A241, A250-A251.
High Island Area, South Addition (Leasing Map TX7B) | A404-A405, A408-A413, A420-A425, A428-A431, A434-A439, A454-A457, A480-A481.
Matagorda Island Area (Leasing Map TX4) | 639-642, 646-649, 673-678, A1, A3, A4.
Mustang Island Area (Leasing Map TX3) | 803-804, 810-812, 826-828, 832-834, 847-849, 853-854.
South Padre Island Area, East Addition (Leasing Map TX1A) | 1078, 1097-1098, 1117-1119, A35-A36, A46-A52, A59-A64.
West Cameron Area (Leasing Map LA1) | 188-190, 195-196, 205-213, 224-230, 241-245, 256.
West Cameron Area, West Addition (Leasing Map LA1A) | 302-303, 314-318, 328-334, 343-352, 359-360, 362-364, 372-379, 393-396, 398-400.

• Whole and Partial BOEM-designated Significant Sediment Resource Area Blocks:

GOM protraction area | Blocks
Bay Marchand Area (Leasing Map LA6C) | 2-5.
Breton Sound Area (Leasing Map LA10B) | 24, 25, 39, 41-44, 53-56.
Chandeleur Area (Leasing Map LA11) | 1, 4, 5, 8, 16, 28, 30-34.
Eugene Island Area (Leasing Map LA4) | 10, 18-35, 37-96, 111, 112.
Galveston Area (Leasing Map TX6) | 265, 290, 291, 293, 294, 295, 322.
Galveston Area, South Addition (Leasing Map TX6A) | 1A, 2A, 3A, 4A, 5A.
Grand Isle Area (Leasing Map LA7) | 15, 25.
High Island Area (Leasing Map TX7) | 19-21, 35-39, 45-49, 60-65, 69-76, 83-91, 111-119, 131-137, 158-164, 171-175, 196-205, 230-234, 261-264, 292, A6-A10, A16-A22, A37-A42, A60-A65.
High Island Area, East Addition (Leasing Map TX7A) | 6, 10, 38-42, 45, 46, 60-65, 74-76, 83, 84, 85.
Mobile (Leasing Map NH 16-04) | 765-767, 778, 779, 809-824, 826-830, 853-874, 897-918, 942, 946, 947, 954-962, 991, 999-1006.
Main Pass Area (Leasing Map LA10) | 6, 39-44, 58-60, 86-90, 92-120, 125-129, 139.
Main Pass, South and East Addition (Leasing Map LA10A) | 161, 162, 180, 181.
South Pelto Area (Leasing Map LA6B) | 1-20, 23-25.
Sabine Pass Area (LA) (Leasing Map LA12) | 8-16.
South Marsh Island Area, North Addition (Leasing Map LA3D) | 207-237, 241-249, 259-261, 267, 268.
Ship Shoal Area (Leasing Map LA5) | 24-26, 37, 38, 63-75, 84-100, 107-114, 119, 120.
South Timbalier Area (Leasing Map LA6) | 9-11, 16-18, 34, 51, 52, 54, 55, 66, 67, 72.
Sabine Pass Area (TX) (Leasing Map TX8) | 9, 17, 18, 40, 44.
Viosca Knoll (Leasing Map NH 16-07) | 23, 34-38, 67, 78-82, 111, 155.
Vermilion Area (Leasing Map LA3) | 11, 30, 49, 51-54, 68-77, 86-96, 108-111.
West Cameron Area (Leasing Map LA1) | 20-22, 41-45, 56-60, 78-83, 90-95, 113-118, 128-134, 146-150, 153-157, 160, 161, 162, 168-172, 181.
West Cameron Area, West Addition (Leasing Map LA1A) | 154-157, 160-162, 287.
West Delta Area (Leasing Map LA8) | 20-31, 32, 43-50, 56-61.

The final list of blocks available for bid is posted on BOEM's website at http://www.boem.gov/sale-259 under the Final NOS tab.

II. Statutes and Regulations

The Inflation Reduction Act directs BOEM to hold GOM Lease Sale 259 by March 31, 2023 (Pub. L. 117-169). Each lease is issued pursuant to OCSLA, 43 U.S.C. 1331 et seq., as amended, and is subject to OCSLA implementing regulations promulgated pursuant thereto in 30 CFR part 556, and other applicable statutes and regulations in existence upon the effective date of the lease, as well as those applicable statutes enacted and regulations promulgated thereafter, except to the extent that the after-enacted statutes and regulations explicitly conflict with an express provision of the lease. Each lease is subject to amendments to statutes and regulations, including but not limited to OCSLA, that do not explicitly conflict with an express provision of the lease. The lessee expressly bears the risk that such new or amended statutes and regulations (i.e., those that do not explicitly conflict with an express provision of the lease) may increase or decrease the lessee's obligations under the lease. BOEM reserves the right to reject any and all bids received, regardless of the amount offered (see 30 CFR 556.516).

III. Lease Terms and Economic Conditions

OCS Lease Form

BOEM will use Form BOEM-2005 (February 2017) to convey leases resulting from this sale. This lease form can be viewed on BOEM's website at http://www.boem.gov/BOEM-2005. The lease form will be amended to include specific terms, conditions, and stipulations applicable to the individual lease. The final terms, conditions, and stipulations applicable to this sale are below.

Primary Terms

Primary terms are summarized in the following table:

Water depth (meters) | Primary term
0 to <400 | The primary term is 5 years; the lessee may earn an additional 3 years (i.e., for an 8-year extended primary term) if a well is spudded targeting hydrocarbons below 25,000 feet True Vertical Depth Subsea (TVDSS) during the first 5 years of the lease.
400 to <800 | The primary term is 5 years; the lessee will earn an additional 3 years (i.e., for an 8-year extended primary term) if a well is spudded during the first 5 years of the lease.
800+ | 10 years.

(1) The primary term for a lease in water depths less than 400 meters issued as a result of this sale is 5 years. If the lessee spuds a well targeting hydrocarbons below 25,000 feet TVDSS within the first 5 years of the lease, then the lessee may earn an additional 3 years, resulting in an 8-year primary term. The lessee will earn the 8-year primary term when the well is drilled to a target below 25,000 feet TVDSS; or, the lessee may earn the 8-year primary term in cases where the well targets, but does not reach, a depth below 25,000 feet TVDSS due to mechanical or safety reasons that are beyond the lessee's control, and that are supported by sufficient evidence from the lessee. To earn the 8-year primary term, the lessee is required to submit a letter to the BOEM GOM Regional Supervisor, Office of Leasing and Plans, as soon as practicable, but no more than 30 days after completion of the drilling operation, providing the well number, spud date, information demonstrating a target below 25,000 feet TVDSS and whether that target was reached, and if applicable, any safety or mechanical reasons encountered that prevented the well from reaching a depth below 25,000 feet TVDSS. In the letter, the lessee must request confirmation from BOEM that the lessee earned the 8-year primary term. The BOEM GOM Regional Supervisor for Leasing and Plans will confirm in writing, within 30 days of receiving the lessee's letter, whether the lessee has earned the extended primary term and accordingly update BOEM's records. The extended primary term is not effective unless and until the lessee receives confirmation from BOEM. A lessee that has earned the 8-year primary term by spudding a well with a hydrocarbon target below 25,000 feet TVDSS during the standard 5-year primary term of the lease will not be granted a suspension for that same period under the regulations at 30 CFR 250.175 because the lease is not at risk of expiring.

(2) The primary term for a lease in water depths ranging from 400 to less than 800 meters issued as a result of this sale is 5 years. If the lessee spuds a well within the 5-year primary term of the lease, the lessee may earn an additional 3 years, resulting in an 8-year primary term. To earn the 8-year primary term, the lessee is required to submit a letter to the BOEM GOM Regional Supervisor, Office of Leasing and Plans, as soon as practicable, but no more than 30 days after spudding a well, providing the well number and spud date, and requesting confirmation from BOEM that the lessee earned the 8-year extended primary term. Within 30 days of receipt of the request, the BOEM GOM Regional Supervisor for Leasing and Plans will provide written confirmation of whether the lessee has earned the extended primary term and accordingly update BOEM's records. The extended primary term is not effective unless and until the lessee receives confirmation from BOEM.

(3) The primary term for a lease in water depths 800 meters or deeper issued as a result of this sale is 10 years.

Minimum Bonus Bid Amounts

BOEM will not accept a bonus bid unless it provides for a cash bonus in an amount equal to or exceeding the specified minimum bid, as described below.

• $25 per acre or fraction thereof for blocks in water depths less than 400 meters; and

• $100 per acre or fraction thereof for blocks in water depths 400 meters or deeper.

Rental Rates

Annual rental rates per acre or fraction thereof are summarized in the following table:

Water depth (meters) | Years 1-5 | Year 6 | Year 7 | Year 8+
0 to <200 | $10 | $20 | $30 | $40
200 to <400 | 16 | 32 | 48 | 64
400+ | 16 | 22 | 22 | 22

Escalating Rental Rates for Leases With an 8-Year Primary Term in Water Depths Less Than 400 Meters

Any lessee with a lease in less than 400 meters water depth who earns an 8-year primary term will pay an escalating rental rate as shown above. The rental rates after the fifth year for blocks in less than 400 meters water depth will become fixed and no longer escalate if another well is spudded targeting hydrocarbons below 25,000 feet TVDSS after the fifth year of the lease, and BOEM concurs that such a well has been spudded. In this case, the rental rate will become fixed at the rental rate in effect during the lease year in which the additional well was spudded.

Royalty Rate

• 18¾ percent for all leases.

Minimum Royalty Rate

• $10 per acre or fraction thereof per year for blocks in water depths less than 200 meters; and

• $16 per acre or fraction thereof per year for blocks in water depths 200 meters or deeper.

Royalty Suspension Provisions

The issuance of leases with Royalty Suspension Volumes (RSVs) or other forms of royalty relief is authorized under existing Departmental regulations at 30 CFR part 560, which BOEM administers. The specific details relating to eligibility and implementation of the various royalty relief programs, including those involving the use of RSVs, are found in the Departmental regulations at 30 CFR part 203, which the Bureau of Safety and Environmental Enforcement administers. In this sale, the only royalty relief program being offered involves RSVs for the drilling of ultra-deep wells in water depths of less than 400 meters, as described in the following section.

Royalty Suspension Volumes on Gas Production From Ultra-Deep Wells

Pursuant to 30 CFR part 203, certain leases issued as a result of this sale may be eligible for RSV incentives on gas produced from ultra-deep wells. Under this program, wells on leases in less than 400 meters water depth and completed to a drilling depth of 20,000 feet TVDSS or deeper receive an RSV of 35 billion cubic feet on the production of natural gas. This RSV incentive is subject to applicable price thresholds set forth in the regulations at 30 CFR part 203. These regulations implement the requirements of the Energy Policy Act of 2005 (Pub. L. 109-58, 119 Stat. 594 (2005)).

IV. Lease Stipulations

One or more of the stipulations below may be applied to leases issued as a result of this sale. The applicable blocks for each stipulation are identified on the map “Final Notice of Sale, Gulf of Mexico OCS Oil and Gas Lease Sale 259, March 2023, Stipulations and Deferred Blocks” included in the Final NOS package. The full text of the following stipulations is contained in the “Lease Stipulations” section of the Final NOS package. BOEM has posted the final list of blocks available for bid and the applicable stipulations that apply to those blocks on its website at http://www.boem.gov/Sale-259 under the Final NOS tab.

(1) Military Areas

(2) Evacuation

(3) Coordination

(4) Protected Species

(5) United Nations Convention on the Law of the Sea Royalty Payment

(6) Agreement between the United States of America and the United Mexican States Concerning Transboundary Hydrocarbon Reservoirs in the Gulf of Mexico

(7) Restrictions due to Rights-of-Use and Easement for Floating Production Facilities

(8) Royalties on All Produced Gas

V. Information to Lessees

Information to Lessees (ITLs) provide detailed information on certain issues pertaining to specific oil and gas lease sales. The full text of the ITLs for this sale is contained in the “Information to Lessees” section of the Final NOS package and covers the following topics.

(1) Navigation Safety

(2) Ordnance Disposal Areas

(3) Existing and Proposed Artificial Reefs/Rigs-to-Reefs

(4) Lightering Zones

(5) Indicated Hydrocarbons List

(6) Military Areas

(7) Bureau of Safety and Environmental Enforcement Inspection and Enforcement of Certain U.S. Coast Guard Regulations

(8) Significant Outer Continental Shelf Sediment Resource Areas

(9) Notice of Arrival on the Outer Continental Shelf

(10) Bidder/Lessee Notice of Obligations Related to Criminal/Civil Charges and Offenses, Suspension, or Debarment; Disqualification Due to a Conviction under the Clean Air Act or the Clean Water Act

(11) Protected Species

(12) Expansion of the Flower Garden Banks National Marine Sanctuary

(13) Communication Towers

(14) Deepwater Port Applications for Offshore Oil and Liquefied Natural Gas Facilities

(15) Ocean Dredged Material Disposal Sites

(16) Rights-of-Use and Easement

(17) Industrial Waste Disposal Areas

(18) Gulf Islands National Seashore

(19) Air Quality Permit/Plan Approvals

(20) Provisions Pertaining to Certain Transactions by Foreign Persons Involving Real Estate in the United States

(21) Inflation Reduction Act of 2022

VI. Maps

The maps pertaining to this lease sale can be viewed on BOEM's website at http://www.boem.gov/Sale-259. The following maps also are included in the Final NOS package:

Sale Area Map

The sale area is shown on the map entitled, “Final Notice of Sale, Gulf of Mexico OCS Oil and Gas Lease Sale 259, March 2023, Final Sale Area.”

Lease Terms and Economic Conditions Map

The lease terms and economic conditions associated with leases of certain blocks are shown on the map entitled, “Final Notice of Sale, Gulf of Mexico Oil and Gas Lease Sale 259, March 2023, Lease Terms and Economic Conditions.”

Stipulations and Deferred Blocks Map

The lease stipulations and the blocks to which they apply are shown on the map entitled, “Final Notice of Sale, Gulf of Mexico OCS Oil and Gas Lease Sale 259, March 2023, Stipulations and Deferred Blocks.”

VII. Bidding Instructions

Bids may be submitted BY MAIL ONLY through any parcel delivery service (e.g., FedEx, UPS, USPS, DHL) at the address below in the “Mailed Bids” section. Bidders should be aware that BOEM has eliminated in-person bidding for GOM Lease Sale 259. Instructions on how to submit a bid, secure payment of the advance bonus bid deposit (if applicable), and the information to be included with the bid are as follows:

Bid Form

For each block bid upon, a separate sealed bid must be submitted in a sealed envelope (as described below) and include the following items:

• Total amount of the bid in whole dollars only;

• Sale number;

• Sale date;

• Each bidder's exact name;

• Each bidder's proportionate interest, stated as a percentage, using a maximum of five decimal places (e.g., 33.33333 percent);

• Typed name and title, and signature of each bidder's authorized officer. Electronic signatures are acceptable. The typed name, title, and signature must agree exactly with the name and title on file in the BOEM Gulf of Mexico OCS Region Adjudication Section;

• Each bidder's BOEM qualification number;

• Map name and number or OPD name and number;

• Block number; and

• Statement acknowledging that the bidder(s) understands that this bid legally binds the bidder(s) to comply with all applicable regulations, including the requirement to post a deposit in the amount of one-fifth of the bonus bid amount for any tract bid upon and make payment of the balance of the bonus bid and first year's rental upon BOEM's acceptance of high bids.

The information required for each bid is specified in the document “Bid Form” that is available in the Final NOS package, which can be found at http://www.boem.gov/Sale-259/. A blank bid form is provided in the Final NOS package for convenience and can be copied and completed with the necessary information described above.

Bid Envelope

Each bid must be submitted in a separate sealed envelope labeled as follows:

• “Sealed Bid for GOM Lease Sale 259, not to be opened until 9 a.m. Wednesday, March 29, 2023”;

• Map name and number or OPD name and number;

• Block number for block bid upon;

• Acreage, if the bid is for a block that is split between the Central and Eastern Planning Areas;

• The exact name and qualification number of the submitting bidder only.

The Final NOS package includes a sample bid envelope for reference.

Mailed Bids

Please address the envelope containing the sealed bid envelope(s) as follows: Attention: Leasing and Financial Responsibility Section, BOEM New Orleans Office, 1201 Elmwood Park Boulevard MS-266A, New Orleans, Louisiana 70123-2394, Contains Sealed Bids for GOM Lease Sale 259, Please Deliver to Mr. Greg Purvis, 2nd Floor, Immediately.

Please Note: Bidders are advised to inform BOEM by email at BOEMGOMRLeaseSales@boem.gov immediately after placing bid(s) in the mail. This provides advance notice to BOEM regarding pending bids prior to the bid submission deadline. In the email, please state the tracking number of the bid package, the number of bids being submitted, and the email address of the person who should receive the bid receipt for signature. If BOEM receives bids later than the bid submission deadline, the BOEM GOM Regional Director (RD) will return those bids unopened to bidders. Please see Section XI, “Delay of Sale,” regarding BOEM's discretion to extend the Bid Submission Deadline in the case of an unexpected event (e.g., flooding) and how bidders can obtain more information on such extensions.

Advance Bonus Bid Deposit Guarantee

Bidders that are not currently an OCS oil and gas lease record title holder or designated operator, or those that have ever defaulted on a one-fifth bonus bid deposit, must guarantee (secure) the payment of the one-fifth bonus bid deposit, by Electronic Funds Transfer (EFT) or otherwise, prior to bid submission using one of the following four methods:

• Provide a third-party guarantee;

• Amend a development stage area-wide bond via bond rider;

• Provide a letter of credit; or

• Provide a lump sum payment in advance via EFT.

Please provide, at the time of bid submittal, a confirmation or tracking number for the payment, the name of the company submitting the payment as it appears on the payment, and the date the payment was submitted so BOEM can confirm payment with the Office of Natural Resources Revenue (ONRR). Submitting payment to the bidders' financial institution at least 5 business days prior to bid submittal helps ensure that the Office of Foreign Assets Control and the U.S. Department of the Treasury (U.S. Treasury) have the needed time to screen and process payments so they are posted to ONRR prior to placing the bid. ONRR cannot confirm payment until the monies have been moved into settlement status by the U.S. Treasury. Bids will not be accepted if BOEM cannot confirm payment with ONRR.

If providing a third-party guarantee, amending a development stage area-wide bond via bond rider, or providing a letter of credit to secure your one-fifth bonus bid deposit, bidders are urged to file these documents with BOEM well in advance of submitting the bid, to allow processing time and for bidders to take any necessary curative actions prior to bid submission. For more information on EFT procedures, see Section X, “The Lease Sale.”

Affirmative Action

Prior to bidding, each bidder should file the Equal Opportunity Affirmative Action Representation Form BOEM-2032 (February 2020, available on BOEM's website at http://www.boem.gov/BOEM-2032/) and Equal Opportunity Compliance Report Certification Form BOEM-2033 (February 2020, available on BOEM's website at http://www.boem.gov/BOEM-2033/) with the BOEM GOM Adjudication Section. This certification is required by 41 CFR part 60 and Executive Order (E.O.) 11246, issued September 24, 1965, as amended by E.O. 11375, issued October 13, 1967, and by E.O. 13672, issued July 21, 2014. Both forms must be on file for the bidder(s) in the GOM Adjudication Section prior to the execution of any lease contract.

Geophysical Data and Information Statement (GDIS)

The GDIS is composed of three parts:

(1) A “Statement” page that includes the company representatives' information and separate lists of blocks bid on that used proprietary data and those blocks bid upon that did not use proprietary data;

(2) A “Table” listing the required data about each proprietary survey used (see below); and

(3) “Maps,” which contain the live trace maps for each proprietary survey that is identified in the GDIS statement and table.

Every bidder submitting a bid on a block in GOM Lease Sale 259 or participating as a joint bidder in such a bid must submit at the time of bid submission all three parts of the GDIS. A bidder must submit the GDIS even if a joint bidder or bidders on a specific block also have submitted a GDIS. Any speculative data that has been reprocessed externally or “in-house” is considered proprietary due to the proprietary processing and is no longer considered to be speculative.

The bidder and joint bidder must submit the GDIS in a separate and sealed envelope and must identify all proprietary data; reprocessed speculative data, and/or any Controlled Source Electromagnetic surveys, Amplitude Versus Offset (AVO) data, gravity data, and/or magnetic data; or other information used as part of the decision to bid or participate in a bid on the block. The bidder and joint bidder must also include a live trace map (e.g., .pdf and ArcGIS shapefile) for each proprietary survey identified in the GDIS illustrating the actual areal extent of the proprietary geophysical data in the survey (see the “Example of Preferred Format” that is included in the Final NOS package for additional information). The shape file must not include cultural resources information; only the live trace map of the survey itself.

The GDIS statement must include the name, phone number, and full address for a contact person and an alternate who are both knowledgeable about the geophysical information and data listed and who are available for 30 days after the sale date. The GDIS statement must also include a list of all blocks bid upon, including those blocks where no proprietary or reprocessed geophysical data and/or proprietary information was used, as a basis for the bidder's decision to bid or to participate as a joint bidder in the bid. All bidders must submit the GDIS statement even if no proprietary geophysical data or information was used in its bid preparation for the block.

An example of the preferred format of the table is included in the Final NOS package, and a blank digital version of the preferred table can be accessed on the GOM Lease Sale 259 website at http://www.boem.gov/Sale-259/. The GDIS table should have columns that clearly state the following:

• The sale number;

• The bidder company's name;

• The joint bidder's company's name (if applicable);

• The company providing proprietary data to BOEM;

• The block area and block number bid upon;

• The owner of the original data set (i.e., who initially acquired the data);

• The industry's original name of the survey (e.g., E Octopus);

• The BOEM permit number for the survey;

• Whether the data set is a fast-track version;

• Whether the data is speculative or proprietary;

• The data type (e.g., 2-D, 3-D, or 4-D; pre-stack or post-stack; time or depth);

• The migration algorithm (e.g., Kirchhoff migration, wave equation migration, reverse migration, reverse time migration) of the data and areal extent of bidder survey (i.e., number of line miles for 2-D or number of blocks for 3-D);

• The live proprietary survey coverage (2-D miles 3-D blocks);

• The computer storage size, to the nearest gigabyte, of each seismic data and velocity volume used to evaluate the lease block;

• Who reprocessed the data;

• Date the final reprocessing was completed (month and year);

• If the data was previously sent to BOEM, list the sale number and date of the sale for which it was used;

• Whether proprietary or speculative AVO/AVA (PROP/SPEC) was used;

• Date AVO or AVA was sent to BOEM if sent prior to the sale;

• Whether AVO/AVA is time or depth (PSTM or PSDM);

• Which angled stacks were used (e.g., NEAR, MID, FAR, ULTRAFAR);

• Whether the company used Gathers to evaluate the block in question; and

• Whether the company used Vector Offset Output (VOO) or Vector Image Partitions (VIP) to evaluate the block in question.

BOEM will use the computer storage size information to estimate the reproduction costs for each data set, if applicable. BOEM will determine the availability of reimbursement of production costs consistent with 30 CFR 551.13.

BOEM reserves the right to inquire about alternate data sets, to perform quality checks, and to compare the listed and alternative data sets to determine which data set most closely meets the needs of the fair market value determination process. See the “Example of Preferred Format” that is included in the Final NOS package.

The GDIS maps are live trace maps (e.g., .pdf and ArcGIS shapefiles) that bidders should submit for each proprietary survey identified in the GDIS table. The maps should illustrate the actual areal extent of the proprietary geophysical data in the survey (see the “Example of Preferred Format” that is included in the Final NOS package for additional information). As previously stated, the shapefile must not include cultural resources information, only the live trace map of the survey itself.

Pursuant to 30 CFR 551.12 and 556.501, as a condition of the sale, the BOEM GOM Regional Director requests that all bidders and joint bidders submit the proprietary data identified on their GDIS within 30 days after the lease sale (unless notified after the lease sale that BOEM has withdrawn the request). This request only pertains to proprietary data that is not commercially available. Commercially available data should not be submitted to BOEM unless specifically requested by BOEM. No reimbursement will be provided for unsolicited data sent to BOEM. The BOEM GOM RD will notify bidders and joint bidders of any withdrawal of the request, for all or some of the proprietary data identified on the GDIS, within 15 calendar days of the lease sale. Where the BOEM GOM RD has notified bidders and joint bidders that the request for such proprietary data has been withdrawn, reimbursement will not be provided. Pursuant to 30 CFR part 551 and 30 CFR 556.501, as a condition of this sale, all bidders that are required to submit data must ensure that the data are received by BOEM no later than the 30th day following the lease sale, or the next business day if the submission deadline falls on a weekend or Federal holiday.

The data must be submitted to BOEM at the following address: Bureau of Ocean Energy Management, Resource Studies, GM 881A, 1201 Elmwood Park Blvd., New Orleans, Louisiana 70123-2304.

BOEM recommends that bidders mark the submission's external envelope as “Deliver Immediately to DASPU.” BOEM also recommends that bidders submit the data in an internal envelope, or otherwise marked, with the following designation: “Geophysical Data and Information Statement for Oil and Gas Lease Sale 259”, Company Name, GOM Company Qualification Number, and “Proprietary Data.”

In the event a person supplies any type of data to BOEM, that person must meet the following requirements to qualify for reimbursement:

(1) Must be registered with the System for Award Management (SAM), formerly known as the Central Contractor Registration (CCR). CCR usernames will not work in SAM. A new SAM user account is needed to register or update an entity's records. The website for registering is gsa.gov/iaesystems.

(2) Must be enrolled in the U.S. Treasury's Invoice Processing Platform (IPP) for electronic invoicing; to enroll go to https://www.ipp.gov/. Access then will be granted to use the IPP for submitting requests for payment. When submitting a request for payment, the assigned Purchase Order Number must be included.

(3) Must have a current On-line Representations and Certifications Application at gsa.gov/iaesystems.

Please Note: Digital copies and duplicate hardcopies should be submitted for the GDIS Statement, Table and Maps. The GDIS Statement should be sent in as a digital PDF. The GDIS Information Table must be submitted digitally as an Excel spreadsheet. The Proprietary Maps should be sent in as PDF files and the live trace outline of each proprietary survey should also be submitted as a shapefile. Please flatten all layered PDF files, since layered PDFs can have many objects. Layered PDFs can cause problems opening or printing the file correctly. Bidders may submit the digital files on a CD, DVD, or any USB external drive (formatted for Windows). If bidders have any questions, please contact Ms. Dee Smith at (504) 736-2706, or Ms. Teree Campbell at (504) 736-3231.

Bidders should refer to Section X, “The Lease Sale,” regarding a bidder's failure to comply with the requirements of the NOS, including any failure to submit information required in the Final NOS package.

Telephone Numbers/Addresses of Bidders

BOEM requests that bidders provide this information in the suggested format prior to or at the time of bid submission. The suggested format is included in the Final NOS package. The form must not be enclosed inside the sealed bid envelope.

Additional Documentation

BOEM may require bidders to submit other documents in accordance with 30 CFR 556.107, 556.401, 556.501, and 556.513.

VIII. Bidding Rules and Restrictions

Restricted Joint Bidders

On October 18, 2022, BOEM published the most recent List of Restricted Joint Bidders in the Federal Register at 87 FR 65248. Potential bidders are advised to refer to the Federal Register prior to bidding for the most current List of Restricted Joint Bidders in place at the time of the lease sale. Please refer to the joint bidding provisions at 30 CFR 556.511-556.515.

Authorized Signatures

All signatories executing documents on behalf of the bidder(s) must execute the same in conformance with the BOEM qualification records. Bidders are advised that BOEM considers the signed bid to be a legally binding obligation on the part of the bidder(s) to comply with all applicable regulations, including that requiring payment of one-fifth of the bonus bid on all high bids. A statement to this effect is included on each bid form (see the document “Bid Form” that is included in the Final NOS package).

Unlawful Combination or Intimidation

BOEM warns bidders against violation of 18 U.S.C. 1860, which prohibits unlawful combination or intimidation of bidders.

Bid Withdrawal

Bids may be withdrawn only by written request delivered to BOEM prior to the bid submission deadline via any parcel delivery service. Withdrawals will not be accepted in person or via email. The withdrawal request must be on company letterhead and must contain the bidder's name, its BOEM qualification number, the map name/number, and the block number(s) of the bid(s) to be withdrawn. The withdrawal request must be executed by one or more of the representatives named in the BOEM qualification records. The name and title of the authorized signatory must be typed under the signature block on the withdrawal request. The BOEM GOM RD, or the RD's designee, will indicate approval by signing and dating the withdrawal request.

Bid Rounding

Minimum bonus bid calculations, including rounding, for all blocks are shown in the document “List of Blocks Available for Leasing” that is included in the Final NOS package. The bonus bid amount must be stated in whole dollars. If the acreage of a block contains a decimal figure, then prior to calculating the minimum bonus bid, BOEM will round up to the next whole acre. The appropriate minimum rate per acre will be applied to the whole (rounded up) acreage. The bonus bid amount must be greater than or equal to the minimum bonus bid, as calculated and stated in the Final NOS package.

IX. Forms

The Final NOS package includes instructions, samples, and/or the preferred format for the items listed below. BOEM strongly encourages bidders to use the recommended formats. If bidders use another format, they are responsible for including all the information specified for each item in the Final NOS package.

(1) Bid Form

(2) Sample Completed Bid

(3) Sample Bid Envelope

(4) Sample Bid Mailing Envelope

(5) Telephone Numbers/Addresses of Bidders Form

(6) GDIS Form

(7) GDIS Envelope Form

X. The Lease Sale

Bid Opening and Reading

Sealed bids received in response to the Final NOS will be opened at the place, date, and hour specified under the DATES and ADDRESSES sections of the Final NOS. The venue will not be open to the public. Instead, the bid opening will be available for the public to view on BOEM's website at www.boem.gov via live streaming. The opening of the bids is for the sole purpose of publicly announcing and recording the bids received; no bids will be accepted or rejected at that time.

Bonus Bid Deposit for Apparent High Bids

Each bidder submitting an apparent high bid must submit a bonus bid deposit to ONRR equal to one-fifth of the bonus bid amount for each such bid. A copy of the notification of the high bidder's one-fifth bonus bid amount can be obtained on the BOEM website at http://www.boem.gov/Sale-259/ under the heading “Notification of EFT ⅕ Bonus Liability” after 1:00 p.m. on the day of the sale. All payments must be electronically deposited into an interest-bearing account in the U.S. Treasury by 1:00 p.m. Eastern Time the day following the bid reading (no exceptions). Account information is provided in the “Instructions for Making Electronic Funds Transfer Bonus Payments” found on the BOEM website identified above.

Submitting payment to your financial institution as soon as possible on the day of bid reading, but no later than 7:00 p.m. Eastern Time on the day of bid reading, will help ensure that deposits have time to process through the U.S. Treasury and post to ONRR. ONRR cannot confirm payment until the monies have been moved into settlement status by the U.S. Treasury.

BOEM requires bidders to use EFT procedures for payment of one-fifth bonus bid deposits for GOM Lease Sale 259, following the detailed instructions contained on the ONRR Payment Information web page at https://www.onrr.gov/ReportPay/payments.htm. Acceptance of a deposit does not constitute, and will not be construed as, acceptance of any bid on behalf of the United States.

Withdrawal of Blocks

The United States reserves the right to withdraw any block from this lease sale prior to issuance of a written acceptance of a bid for the block.

Acceptance, Rejection, or Return of Bids

The United States reserves the right to reject any and all bids, regardless of the amount offered. Furthermore, no bid will be accepted, and no lease for any block will be awarded to any bidder, unless:

(1) The bidder has complied with all applicable regulations and requirements of the Final NOS, including those set forth in the documents contained in the Final NOS package;

(2) The bid is the highest valid bid; and

(3) The amount of the bid has been determined to be adequate by the authorized officer.

Any bid submitted that does not conform to the requirements of the Final NOS and Final NOS package, OCSLA, or other applicable statutes or regulations will be rejected and returned to the bidder. The U.S. Department of Justice and the Federal Trade Commission will review the results of the lease sale for any antitrust issues prior to the acceptance of bids and issuance of leases.

Bid Adequacy Review Procedures for GOM Lease Sale 259

To ensure that the U.S. Government receives fair market value for the conveyance of leases from this sale, BOEM will evaluate high bids in accordance with the bid adequacy procedures that are effective on the date of the sale. The bid adequacy procedures are available on BOEM's website at http://www.boem.gov/Oil-and-Gas-Energy-Program/Leasing/Regional-Leasing/Gulf-of-Mexico-Region/Bid-Adequacy-Procedures.aspx.

Lease Award

Leases issued as a result of GOM Lease Sale 259 are expressly limited to oil and gas exploration and development. As noted in section 19 of the lease form, all rights in the leased area not expressly granted to the Lessee by the Act, the regulations, or this lease are hereby reserved to the Lessor.

BOEM requires each bidder that is awarded a lease to complete the following:

(1) Execute all copies of the lease (Form BOEM-2005 [February 2017], as amended);

(2) Pay by EFT the balance of the bonus bid amount and the first year's rental for each lease issued in accordance with the requirements of 30 CFR 1218.155 and 556.520(a); and

(3) Satisfy the bonding requirements of 30 CFR part 556, subpart I, as amended. ONRR requests that bidders use only one transaction for payment of the balance of the bonus bid amount and the first year's rental. Once ONRR receives such payment, the bidder awarded the lease may not request a refund of the balance of the bonus bid amount or first year's rental payment.

XI. Delay of Sale

The BOEM GOM RD has the discretion to change any date, time, and/or location specified in the Final NOS package in the case of an event that the BOEM GOM RD deems could interfere with a fair and orderly lease sale process. Such events could include, but are not limited to, natural disasters (e.g., earthquakes, hurricanes, floods), wars, riots, acts of terrorism, fires, strikes, civil disorder, or other events of a similar nature. In case of such events, bidders should call (504) 736-0557, or access the BOEM website at http://www.boem.gov, for information regarding any changes.

Elizabeth Klein,
Director, Bureau of Ocean Energy Management.

[FR Doc. 2023-03973 Filed 2-24-23; 8:45 am]

BILLING CODE 4340-98-P